DEPARTMENT OF ENERGY

Federal Energy Regulatory Commission

[Docket No. ER01-1036-000, et al.]

Electric Energy, Inc., et al.; Electric Rate and Corporate Regulation Filings

January 26, 2001.

Take notice that the following filings have been made with the Commission:

1. Electric Energy, Inc.

[Docket No. ER01-1036-000]

Take notice that on January 23, 2001, Electric Energy, Inc. (EEInc.), tendered for filing an executed Transmission Service Agreement for Firm Point-to-Point Transmission Service between EEInc., and Ameren Energy, Inc., (Ameren). Under the Transmission Service Agreement, EEInc., will provide Point-to-Point Transmission Service to Ameren pursuant to EEInc.'s open access transmission tariff filed in compliance with Order No. 888 and allowed to become effective by the Commission.

EEInc. has requested that the Service Agreement be allowed to become effective as of April 1, 2001.

Copies of this filing have been sent to Ameren.

Comment date: February 13, 2001, in accordance with Standard Paragraph E at the end of this notice.

2. Southwest Power Pool, Inc.

[Docket No. ER01-1037-000]

Take notice that on January 23, 2001, Southwest Power Pool, Inc. (SPP), tendered for filing eleven executed service agreements for Firm Point-to-Point Transmission Service and Non-Firm Point-to-Point Transmission Service with Tenaska Power Services Company, Tex-La Electric Cooperative of Texas, Inc., Western Resources Generation Services and Electric Clearinghouse, Inc. (ECI) (collectively, Transmission Customers).

SPP seeks an effective date of June 1, 2001 for the service agreement with ECI, and an effective date of January 1, 2001 for the service agreements with the remaining Transmission Customers.

Copies of this filing were served on the Transmission Customers.

Comment date: February 13, 2001, in accordance with Standard Paragraph E at the end of this notice.

3. Southwest Power Pool, Inc.

[Docket No. ER01-1039-000]

Take notice that on January 23, 2001, Southwest Power Pool, Inc. (SPP), tendered for filing seven executed service agreements for Firm Point-to-Point Transmission Service with Sempra Energy Trading Corporation (Sempra) and Southwestern Public Service Company (SPS).

SPP seeks an effective date of March 1, 2001 for one of the service agreements with SPS, and an effective date of January 1, 2001 for the remaining service agreements with Sempra and SPS.

Copies of this filing were served on Sempra and on SPS.

Comment date: February 13, 2001, in accordance with Standard Paragraph E at the end of this notice.

4. Illinois Power Company

[Docket No. RT01-84-000]

Take notice that on January 16, 2001, Illinois Power Company (Illinois Power), 500 South 27th Street, Decatur, Illinois 62521-2200 tendered for filing a Compliance Filing pursuant to order No. 2000 and 18 CFR 35.34.

Illinois Power states that it has served a copy of the filing on the Illinois Commerce Commission and all customers having service agreements with Illinois Power under its Open Access Transmission Tariff.

Comment date: March 12, 2001, in accordance with Standard Paragraph E at the end of this notice.

5. Midwest Independent Transmission System Operator, Inc.

[Docket No. RT01-87-000]

Take notice that on January 16, 2001, pursuant to section 35.34(h) of the Commission's regulations, 18 CFR 35.34(h), and the Commission's July 20, 2000 “Notice of Guidance for Processing Order No. 2000 Filings” in Docket No. RM99-2-000, the Midwest Independent Transmission System Operator, Inc. (Midwest ISO) submitted an Order No. 2000 compliance filing.

Comment date: March 12, 2001, in accordance with Standard Paragraph E at the end of this notice.

6. American Transmission Company LLC

[Docket No. RT01-91-000]

Take notice that on January 16, 2001, American Transmission Company LLC (ATCLLC) tendered for filing a Supplemental RTO Compliance Filing.

Comment date: March 12, 2001, in accordance with Standard Paragraph E at the end of this notice.

7. Alliant Energy Corporate Services, Inc. (on behalf of IES Utilities, Inc. and Interstate Power Company), American Transmission Company LLC, Central Illinois Light Company, Cinergy Corp. (on behalf of Cincinnati Gas & Electric Company, PSI Energy, Inc., and Union Light, Heat & Power), Hoosier Energy Rural Electric Coop., Inc., Kentucky Utilities Company, Louisville Gas & Electric Company, Northern States Power Company (Minnesota), Northern States Power Company (Wisconsin), and Southern Indiana Gas & Electric Company

[Docket No. RT01-96-000]

Take notice that on January 16, 2001, the Specified Transmission Owners listed above submitted for filing certain documents intended to satisfy their compliance filing obligations under Order Nos. 2000 and 2000-A.

Copies of this filing were served upon all affected state commissions and affected transmission customers of the Specified Transmission Owners.

Comment date: March 12, 2001, in accordance with Standard Paragraph E at the end of this notice.

8. Ameren Corporation, et al.

[Docket No. RT01-88-000]

Take notice that on January 16, 2001, pursuant to section 35.34(h) of the Commission's regulations, 18 CFR 35.34(h), and the Commission's July 20, 2000 “Notice of Guidance for Processing Order No. 2000 Filings” in Docket No. RM99-2-000, Ameren Corporation (Ameren), on behalf of Union Electric Company and Central Illinois Public Service Company; American Electric Power Service Corporation, on behalf of Appalachian Power Company, Columbus Southern Power Company, Indiana Michigan Power Company, Kentucky Power Company, Kingsport Power Company, Ohio Power Company, and Wheeling Power Company; Consumers Energy Company; Exelon Corporation, on behalf of Commonwealth Edison Company and Commonwealth Edison Company of Indiana, Inc. (ComEd); FirstEnergy Corp., on behalf of American Transmission Systems, Inc., The Cleveland Electric Illuminating Company, Ohio Edison Company, Pennsylvania Power Company, and The Toledo Edison Company; Illinois Power Company (Illinois Power); The Dayton Power and Light Company (DP&L); The Detroit Edison Company; and Virginia Electric and Power Company (collectively, the Alliance Companies) jointly submitted an Order No. 2000 compliance filing.

The Alliance Companies state that the Alliance Regional Transmission Organization (Alliance RTO) satisfies the minimum characteristics and functions for a regional transmission organization as set forth in Order No. 2000. Applicants further state that they request that the Commission accept amendments to the Alliance Agreement and grant authorization to Ameren, ComEd, Illinois Power and DP&L to transfer ownership and/or functional control of their transmission facilities to the Alliance RTO.

Comment date: March 12, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-2919 Filed 2-2-01; 8:45 am]

BILLING CODE 6717-01-P